DEPARTMENT OF THE INTERIOR

Truckee River Operating Agreement, California and Nevada

AGENCY: U.S. Department of the Interior.

ACTION: Notice of intent to prepare a revised draft environmental impact statement/environmental impact report.

SUMMARY: Pursuant to the National Environmental Policy Act (NEPA) of 1969, as amended, the Council on Environmental Quality (CEQ) regulations, the California Environmental Quality Act (CEQA), and the California State CEQA guidelines, the U.S. Department of the Interior (Interior) and the California Department of Water Resources (DWR) intend to prepare a revised draft environmental impact statement/environmental impact report (revised Draft EIS/EIR) for the Draft Truckee River Operating Agreement (TROA) which would implement Section 205(a) of the Truckee-Carson-Pyramid Lake Water Rights Settlement Act of 1990, Title II of Pub. L. 101-618 (Settlement Act). Scoping meetings were held for the original draft EIS/EIR and no additional scoping meetings are planned.

ADDRESSES: Kenneth Parr, Bureau of Reclamation (Reclamation), 705 North Plaza Street, Room 320, Carson City, Nevada 89701-4015, e-mail: kparr@mp.usbr.gov; or Michael Cooney, DWR, Central District, 3251 S Street, Sacramento, California 95816-7017, e-mail: mikec@water.ca.gov.

FOR FURTHER INFORMATION CONTACT: Kenneth Parr, Reclamation, telephone: 775-882—3436, TDD 775-882-3436, or fax 775-882-7592; or Michael Cooney, DWR, telephone: 916-227-7606. Information is also available at Reclamation's Web site at: http://www.usbr.gov/mp/troa/.

SUPPLEMENTARY INFORMATION:

Background

Section 205(a) of the Settlement Act directs the Secretary of the Interior (Secretary), in conjunction with others, to negotiate an operating agreement governing operation of federal Truckee River reservoirs and other specified matters. Interior, U.S. Department of Justice, States of California and Nevada, Pyramid Lake Paiute Tribe, Sierra Pacific Power Company, Truckee Meadows Water Authority, and other entities in California and Nevada completed a draft of the TROA in October 2003. The Draft TROA is the first of a number of steps required before TROA can be implemented. The Draft TROA is now available to the public in advance of completion of the revised Draft EIS/EIR. The Draft TROA can be viewed at http://www.usbr.gov/mp/troa/docs/TROAdraft.pdf.

TROA would, in part, (1) Enhance conditions for threatened and endangered fishes throughout the Truckee River basin; (2) increase municipal and industrial (M&I) drought protection for Truckee Meadows (Reno-Sparks metropolitan area); (3) improve river water quality downstream from Sparks, Nevada; and (4) enhance stream flows and recreational opportunities in the Truckee River basin. At the time TROA takes effect, the Settlement Act provides that a permanent allocation between California and Nevada of water in the Lake Tahoe, Truckee River and Carson River basins will also take effect. The allocation of those waters has been a long-standing issue between the two States; implementation of TROA resolves that issue. In addition, Section 205 of the Settlement Act requires that TROA, among other things, implement the provisions of the Preliminary Settlement Agreement as modified by the Ratification Agreement and ensure that water is stored and released from federal Truckee River reservoirs to satisfy the exercise of water rights in conformance with the Orr Ditch decree and Truckee River General Electric decree. The Preliminary Settlement Agreement as modified by the Ratification Agreement was a 1989 agreement between Sierra Pacific Power Company and the Pyramid Lake Paiute Tribe to change the operation of federal reservoirs and Sierra Pacific's exercise of its Truckee River water rights to (1) improve spawning conditions for threatened and endangered fish species (cui-ui and Lahontan cutthroat trout) and (2) provide additional M&I water for Truckee Meadows during drought situations.

Before TROA can be approved by the Secretary and the State of California, and signed by other negotiating parties, potential environmental effects of the agreement must be analyzed pursuant to NEPA and CEQA. Accordingly, Interior and DWR will jointly prepare a revised Draft EIS/EIR for that purpose. The revised Draft EIS/EIR is expected to be released for public comment in the summer of 2004.

An initial Draft EIS/EIR was prepared and released for public review in February 1998. Since then, ongoing negotiations have substantially modified the proposed agreement, resulting in the need to prepare a revised Draft EIS/EIR.

Current Activities

With the public release of the Draft TROA by the negotiators, a new analysis can begin. This analysis will be based on current conditions as well as three alternatives: (1) No Action Alternative (current management continuing in the future, without TROA); (2) Local Water Supply Alternative (changed management in the future, without TROA); and (3) TROA in the future. A Notice of Availability/Notice of Completion will be filed and published announcing (1) the release of the revised Draft EIS/EIR, (2) dates for a public comment period, and (3) locations of hearings that will provide public involvement opportunities. Section 205 of the Settlement Act also requires that any final TROA be issued as a Federal Regulation. Accordingly, and concurrently with the preparation of the revised Draft EIS/EIR, a draft regulation is being prepared which will be issued for public comments by publication in the Federal Register.

Once public comments on the revised Draft EIS/EIR and draft TROA regulation have been received, the lead agencies will send any comments that might relate to provisions of the draft TROA regulation to the negotiators. Comments on the revised Draft EIS/EIR will be addressed in the final environmental analysis of TROA, together with any changes thereto, and a Final EIS/EIR will be published. The Secretary cannot sign a final TROA until a Record of Decision has been completed. The State of California cannot sign TROA until it has considered and certified the Final EIS/EIR in conjunction with making any necessary findings pursuant to CEQA. These and other steps, including approval by the Orr Ditch and Truckee River General Electric Courts, must be completed before TROA may be implemented. TROA will also be published as a Federal Regulation.

Description of Alternatives

No Action Alternative (No Action)

Under No Action, Truckee River reservoir operations would remain unchanged from current operations and would be consistent with existing court decrees, agreements, and regulations that currently govern surface water management (i.e., operating reservoirs in the Truckee River and Lake Tahoe basins and maintaining stream flows) in the Truckee River basin. Truckee Meadows Water Authority's (TMWA) existing programs for surface water rights acquisition and groundwater pumping for M&I use would continue. Groundwater pumping and water conservation in Truckee Meadows, however, would satisfy a greater proportion of projected future M&I demand than under current conditions. Groundwater pumping in California would also increase to satisfy a greater projected future M&I demand.

Local Water Supply Alternative (LWSA)

All elements of Truckee River reservoir operations, river flow management, Truckee River hydroelectric plant operations, minimum reservoir releases, reservoir spill and precautionary release criteria, and water exportation from the upper Truckee River basin and Lake Tahoe basin under LWSA would be the same as described under No Action. The principal differences between No Action and LWSA would be the source of water used for M&I purposes, extent of water conservation, implementation of a groundwater recharge program in Truckee Meadows, and assumptions regarding governmental decisions concerning approval of new water supply proposals.

TROA Alternative (TROA)

TROA would modify existing operations of all designated reservoirs to enhance coordination and flexibility while ensuring that existing water rights are served and flood control and dam safety requirements are met. TROA would incorporate, modify, or replace various provisions of the Truckee River Agreement (TRA) and the Tahoe-Prosser Exchange Agreement (TPEA). TROA would supersede all requirements of any agreements concerning the operation of all reservoirs, including those of TRA and TPEA, and would become the sole operating agreement for all designated reservoirs.

All reservoirs would continue to be operated under TROA for the same purposes as under current operations and with most of the same reservoir storage priorities as under No Action and LWSA. The Settlement Act requires that TROA avoid adverse impacts to Orr Ditch decree water rights.

The primary difference between TROA and the other alternatives is that TROA would expand opportunities for storing and managing other categories of water not addressed under the current permit or license of a reservoir (i.e., credit water). Signatories to TROA generally would be allowed to accumulate credit water in storage by retaining or capturing water in a reservoir that would have otherwise been released from storage or passed through the reservoir to serve a downstream water right (e.g., retaining Floriston Rate water that would have been released to serve an Orr Ditch decree water right). In cases with a change in the place or type of use, such storage could take place only after a transfer in accordance with applicable State water law. Once accumulated, credit water would be classified by category with a record kept of its storage, exchange, and release. Credit water generally would be retained in storage or exchanged among the reservoirs until needed to satisfy its beneficial use. The Interim Storage Agreement (negotiated in accordance with Section 205(b)(3) of the Settlement Act) would no longer be necessary and so would be superseded by new storage agreements between the Bureau of Reclamation and TROA signatories.

Dated: April 8, 2004.
Willie R. Taylor,
Director, Office of Environmental Policy and Compliance.

[FR Doc. 04-8570 Filed 4-14-04; 8:45 am]

BILLING CODE 4310-MN-P